DEPARTMENT OF HEALTH AND HUMAN SERVICES

Substance Abuse and Mental Health Services Administration

Cancellation of a Fiscal Year (FY) 2000 Funding Opportunities Notice

AGENCY: Center for Substance Abuse Treatment (CSAT), Substance Abuse and Mental Health Services Administration (SAMHSA), HHS.

ACTION: Cancellation of future application receipt dates under SAMHSA/CSAT Community Action Grants for Service Systems Change Program (PA 00-002).

SUMMARY: This notice is to inform the public that the SAMHSA/CSAT program announcement, PA 00-002-Community Action Grants for Service Systems Change, is being cancelled. Effective immediately, no applications will be accepted under this announcement.

The notice of funding opportunities under the Community Action Grants for Service Systems Change was published in the Federal Register on February 17, 2000 (Vol. 65, Number 33, pages 8184-8186). A subsequent modification notice for this program was published in the Federal Register on April 27, 2001.

Information related to this notice may be obtained from: Tom Edwards, Division of Services Improvement, CSAT/SAMHSA, Tele: 301-443-8453, e-mail: tedwards@samhsa.gov.

Dated: August 28, 2002.
Richard Kopanda,
Executive Officer, SAMHSA.

[FR Doc. 02-22472 Filed 9-3-02; 8:45 am]

BILLING CODE 4162-20-P